DEPARTMENT OF HEALTH AND HUMAN SERVICES

Centers for Disease Control and Prevention

[60Day-17-17ND; Docket No. CDC-2017-0007]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a proposed information collection entitled “Grants for Injury Control Research Centers Annual Progress Report (APR).” CDC will collect information from grantees funded under Grants for Injury Control and Research Centers (ICRC) for the Annual Progress Report (APR). The APR is used to monitor the ICRCs' progress on set performance indicators, activities, and progress towards stated grant objectives.

DATES: Written comments must be received on or before April 11, 2017.

ADDRESSES: You may submit comments, identified by Docket No. CDC-2017-0007 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Grants for Injury Control Research Centers Annual Progress Report (APR)—New—National Center for Injury Prevention and Control (NCIPC), Centers for Disease Control and Prevention (CDC).

Background and Brief Description

OMB approval is requested for three years for this new information collection project. CDC will collect information from grantees funded under Grants for Injury Control and Research Centers (ICRC) for the Annual Progress Report (APR). The CDC and the National Center for Injury Prevention and Control (NCIPC) began funding the ICRCs throughout the United States in 1987 to study ways to prevent injuries and violence and to work with community partners to put research findings into action.

There are currently ten CDC-funded ICRCs, which are typically funded in five-year funding cycles. ICRCs endeavor to prevent injuries and violence while working to strengthen the injury and violence prevention infrastructure by catalyzing and integrating resources at the local, state and national levels. This collaborative approach is a vital component in the success of ICRCs's efforts to make an impact on population-level reduction in injury-related harm that is critical to HHS objectives.

Grantees will monitor and report progress on a set of performance indicators, their activities, and progress towards stated grant objectives. The reporting templates will capture this information through the use of performance indicators (indicators that signify progress towards a goal) and outcomes of project activities and tasks. In addition, each grantee will complete a personnel and publication data collection form. Information will be transmitted to CDC electronically and via hard copy by email and postal mail respectively.

Data collection will include 100% of population, no sampling. The data will be analyzed using descriptive and summary statistics, qualitative summary. The only cost to respondents will be time spent responding to the survey.

Estimated Annualized Burden Hours
Type of respondent | Form name | Number of respondents | Number of responses per respondent | Average burden per response (in hours) | Total burden (in hours)
Injury Research Center (ICRC) Grantees | Injury Control Research (ICRC) Indicators Data Collection 2016 | 10 | 1 | 20 | 200
| Injury Control Research (ICRC) Indicators Data Collection 2016-Non-CDC Study Supplement | 10 | 1 | 10 | 100
| ICRC Personnel and Publication Excel Data Collection | 10 | 1 | 20 | 200
Total |  |  |  |  | 500

Leroy A. Richardson
Chief, Information Collection Review Office, Office of Scientific Integrity, Office of the Associate Director for Science, Office of the Director, Centers for Disease Control and Prevention.

[FR Doc. 2017-02758 Filed 2-9-17; 8:45 am]

BILLING CODE 4163-18-P